DEPARTMENT OF ENERGY

Federal Energy Regulatory Commission

[Docket No. RP01-82-000]

Florida Gas Transmission Company; Notice of Proposed Changes in FERC Gas Tariff

November 14, 2000.

Take notice that on November 7, 2000, Florida Gas Transmission Company (FGT) tendered for filing to become part of its FERC Gas Tariff, Third Revised Volume No. 1, effective December 1, 2000, the following tariff sheets:

Forty-Third Revised Sheet No. 8A

Thirty-Fifth Revised Sheet No. 8A.01

Thirty-Fifth Revised Sheet No. 8A.02

Thirty-Ninth Revised Sheet No. 8B

Thirty-Second Revised Sheet No. 8B.01

FGT states that in Docket No. RP00-519-000 filed on August 31, 2000, FGT filed to establish a Base Fuel Reimbursement Charge Percentage (Base FRCP) of 3.14% to become effective for the six-month Winter Period beginning October 1, 2000 reflecting FGT's actual fuel usage and unaccounted for gas during the immediately preceding Winter Period. Subsequently, in response to lower throughput and resulting lower fuel usage of FGT's system, on October 23, 2000, in Docket No. RP01-61-000, FGT filed a Flex adjustment of (0.39)% to be effective November 1, 2000, which, when combined with the Base FRCP of 3.14%, resulted in an Effective Fuel Reimbursement Charge Percentage of 2.75%. FGT may file Flex adjustments of up to 0.50% from the Base FRCP pursuant to Section 27 of the General Terms and Conditions (“GTC”) of FGT's tariff.

FGT states that in the instant filing, FGT is filing an adjustment to the Base FRCP. Specifically, FGT is filing to reduce the Base FRCP from 3.14% to 2.50%, effective December 1, 2000. FGT is proposing the reduction to the Base FRCP because FGT's current and projected fuel usage and unaccounted for gas is lower than 2.64%, which is the lowest Effective Fuel Reimbursement Charge Percentage permissible under the Flex Provisions with the current Base FRCP of 3.14%. The current Base FRCP of 3.14% was based on actual fuel use and unaccounted for from the last Winter Period. For the period from October 1, 2000 to date, FGT has operated at a much lower throughout than the historically high throughput of the last Winter Period. As of the date of the instant filing, accounting data for October 2000 is not yet available, but FGT's operating data indicates that FGT is significantly over retaining fuel for the Winter Period to date. FGT believes the proposed reduction in the base FRCP is necessary to minimize over retention of fuel. Establishing a Base FRCP of 2.50% provides FGT the flexibility to utilize the Flex provisions of its tariff to establish an Effective FRCP of from 2.00% to 3.00%, a range which should accommodate the low throughput and fuel usage now being experienced as well as a return to the higher throughput levels of last winter and the resulting higher fuel usage. FGT anticipates that it may file a Flex adjustment to be effective December 1, 2000 to establish an effective FRCP at level lower than 2.50%.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29852 Filed 11-21-00; 8:45 am]

BILLING CODE 6717-01-M